SMALL BUSINESS ADMINISTRATION

National Small Business Development Center Advisory Board Public Meeting

Pursuant to the Federal Advisory Committee Act, Appendix 2 of Title 5, United States Code, Public Law 92-463, notice is hereby given that the U.S. Small Business Administration (SBA), National Small Business Development Center (SBDC) Advisory Board, will be hosting a public federal meeting on Monday, September 17, 2007, from 3 p.m. to 4 p.m. The meeting will be held at the Hyatt Regency Colorado Convention Center, 650 15th Street, Denver, CO 80202. The purpose of the meeting is to discuss advisory board matters that may be presented by members and the staff of the U.S. Small Business Administration (SBA).

Anyone wishing to attend the National Small Business Development Center Advisory Board meeting must contact Alanna Falcone, Program Analyst, U.S. Small Business Administration, Office of Small Business Development Centers, 409 Third Street, SW., Washington, DC 20416, telephone (202) 619-1612 or fax (202) 481-0134.

Matthew Teague,
Committee Management Officer.

[FR Doc. 07-4261 Filed 8-29-07; 8:45 am]

BILLING CODE 8025-01-M